DEPARTMENT OF HEALTH AND HUMAN SERVICES

National Institutes of Health

Office of the Director, National Institutes of Health Amended Notice of Meeting

Notice is hereby given of a change in the meeting of the Advisory Committee on Research on Women's Health, October 20, 2021, 9 a.m. to October 21, 2021, 4:30 p.m., National Institutes of Health, 6701 Rockledge Drive, Bethesda, MD 20892 (Virtual Meeting) which was published in the Federal Register on July 26, 2021, FR Doc 2021-15865, 86 FR 40066.

The meeting notice is amended after the fact to change the two-day meeting to a one-day meeting. The meeting was held on October 21, 2021, from 9:30 a.m. to 4:35 p.m. The meeting was open to the public.

Dated: September 14, 2022.
Miguelina Perez,
Program Analyst, Office of Federal Advisory Committee Policy.

[FR Doc. 2022-20222 Filed 9-16-22; 8:45 am]

BILLING CODE 4140-01-P